DEPARTMENT OF AGRICULTURE

Food Safety and Inspection Service

[Docket No. FSIS-2014-0013]

Codex Alimentarius Commission: Meeting of the Codex Committee on Food Labeling

AGENCY: Office of the Under Secretary for Food Safety, USDA.

ACTION: Notice of public meeting and request for comments.

SUMMARY: The Office of the Under Secretary for Food Safety, U.S. Department of Agriculture (USDA), and the Food and Drug Administration (FDA) are sponsoring a public meeting on September 23, 2014. The objective of the public meeting is to provide information and receive public comments on agenda items and draft United States (U.S.) positions to be discussed at the 42nd Session of the Codex Committee on Food Labeling in Foods (CCFL) of the Codex Alimentarius Commission (Codex), taking place in Santiago, Chile October 21-24, 2014. The Under Secretary for Food Safety and FDA recognize the importance of providing interested parties the opportunity to obtain background information on the 42nd Session of CCFL, and to address items on the agenda.

DATES: The public meeting is scheduled for Tuesday, September 23, 2014 from 1:00-4:00 p.m.

ADDRESSES: The public meeting will take place at the Jamie L. Whitten Building, United States Department of Agriculture (USDA), 1400 Independence Avenue SW., Room 107-A, Washington, DC 20250.

Documents related to the 42nd Session of CCFL will be accessible via the World Wide Web at the following address: http://www.codexalimentarius.org/meetings-reports/en/.

Felicia Billingslea, U.S. Delegate to the 42nd Session of the CCFL, invites U.S. interested parties to submit their comments electronically to the following email address: ccfl@fda.hhs.gov.

Call in Number:

If you wish to participate in the public meeting for the 42nd Session of the CCFL by conference call, please use the call in number and participant code listed below:

Call in Number: 1-888-844-9904.

The participant code will be posted on the following link: http://www.fsis.usda.gov/wps/portal/fsis/topics/international-affairs/us-codex-alimentarius/public-meetings.

For Further Information About the 42nd Session of the CCFL Contact: Office of Nutrition, Labeling, and Dietary Supplements, Center for Food Safety and Applied Nutrition, Food and Drug Administration, 5100 Paint Branch Parkway (HFS-800), College Park, MD 20740, Email: ccfl@fda.hhs.gov.

For Further Information About the Public Meeting Contact: Barbara McNiff, U.S. Codex Office, 1400 Independence Ave. SW., Room 4861, Washington, DC 20250, Phone: (202) 690-4719, Fax: (202) 720-3157, Email: Barbara.McNiff@fsis.usda.gov.

SUPPLEMENTARY INFORMATION:

Background

Codex was established in 1963 by two United Nations organizations, the Food and Agriculture Organization and the World Health Organization. Through adoption of food standards, codes of practice, and other guidelines developed by its committees, and by promoting their adoption and implementation by governments, Codex seeks to protect the health of consumers and ensure fair practices in the food trade.

The CCFL is responsible for:

(a) Drafting provisions on labeling applicable to all foods;

(b) Considering, amending if necessary, and endorsing draft specific provisions on labeling prepared by the Codex Committees drafting standards, codes of practice and guidelines;

(c) Studying specific labeling problems assigned to it by the Commission; and

(d) Studying problems associated with the advertisement of food with particular reference to claims and misleading descriptions. The Committee is hosted by Canada.

Issues To Be Discussed at the Public Meeting

The following items on the Agenda for the 42nd Session of the CCFL will be discussed during the public meeting:

• Matters referred to the Committee

• Organic Aquaculture

• General Standard for the Labelling of Prepackaged Foods to address the issue of date marking

• Other Business and Future Work

Each issue listed will be fully described in documents distributed, or to be distributed, by the Secretariat prior to the Committee meeting. Members of the public may access or request copies of these documents (see ADDRESSES).

Public Meeting

At the September 23, 2014, public meeting, draft U.S. positions on the agenda items will be described and discussed, and attendees will have the opportunity to pose questions and offer comments. Written comments may be offered at the meeting or sent to the U.S. Delegate for the 42nd Session of the CCFL, Felicia Billingslea (see ADDRESSES). Written comments should state that they relate to activities of the 42nd Session of the CCFL.

Additional Public Notification

FSIS will announce this notice online through the FSIS Web page located at http://www.fsis.usda.gov/wps/portal/fsis/topics/regulations/federal-register.

FSIS will also make copies of this Federal Register publication available through the FSIS Constituent Update, which provides information on FSIS policies, procedures, regulations, Federal Register notices, FSIS public meetings, and other matters that could affect or would be of interest to constituents and stakeholders. The Update is communicated via Listserv, a free electronic mail subscription service for industry, trade groups, consumer interest groups, health professionals, and other individuals who have asked to be included. The Update is also available on the FSIS Web page. In addition, FSIS offers an email subscription service which provides automatic and customized access to selected food safety news and information. This service is available at http://www.fsis.usda.gov/wps/portal/fsis/programs-and-services/email-subscription-service. Options range from recalls to export information to regulations, directives and notices. Customers can add or delete subscriptions themselves, and have the option to password protect their accounts.

USDA Nondiscrimination Statement

The U.S. Department of Agriculture (USDA) prohibits discrimination in all its programs and activities on the basis of race, color, national origin, gender, religion, age, disability, political beliefs, sexual orientation, and marital or family status. (Not all prohibited bases apply to all programs.)

Persons with disabilities who require alternative means for communication of program information (Braille, large print, audiotape, etc.) should contact USDA's Target Center at 202-720-2600 (voice and TTY).

To file a written complaint of discrimination, write USDA, Office of the Assistant Secretary for Civil Rights, 1400 Independence Avenue SW., Washington, DC 20250-9410 or call 202-720-5964 (voice and TTY). USDA is an equal opportunity provider and employer.

Done at Washington, DC, on August 22, 2014.
Mary Frances Lowe,
U.S. Manager for Codex Alimentarius.

[FR Doc. 2014-20417 Filed 8-27-14; 8:45 am]

BILLING CODE 3410-DM-P